DEPARTMENT OF ENERGY

Federal Energy Regulatory Commission

Notice of Draft License Application and Preliminary Draft Environmental Assessment (Pdea) and Request for Preliminary Terms and Conditions

November 3, 2003.

Take notice that the following hydroelectric application has been filed with the Commission and is available for public inspection:

a. Type of Application: Draft—New Major License.

b. Project No.: 2145-000.

c. Applicant: Public Utility District No. 1 of Chelan County (Chelan PUD).

d. Name of Project: Rocky Reach Hydroelectric Project.

e. Location: On the Columbia River in Douglas County, Washington. The project occupies about 160 acres of federally-owned lands administered by the Bureau of Land Management and U.S. Forest Service.

f. Applicant Contact: Gregg Carrington, Chelan PUD, 327 North Wenatchee Avenue, PO Box 1231, Wenatchee, Washington 98807-1231, 509-663-8121 or within Washington State toll-free at 888-663-8121, e-mail: gregg@chelanpud.org.

g. FERC Contact: David Turner, FERC, 888 First Street, NE., Room 61-11, Washington, DC 20426, (202) 219-3073, e-mail: david.turner@ferc.gov.

h. Chelan PUD distributed, to interested parties and Commission staff, an initial review version of their Preliminary Draft Environmental Assessment (PDEA) and draft application on January 26, 2003 with a 90-day comment period. Chelan PUD distributed, to interested parties and Commission staff, a revised version of the PDEA and draft application on October 21, 2003.

i. With this notice we are soliciting preliminary terms, conditions, and recommendations on the PDEA and draft license application that were distributed on October 21, 2003. All comments on the PDEA and draft license application should be sent to the Chelan PUD address above in item (f) with one copy sent to Commission staff at the address above in item (g). For those wishing to file comments with the Commission, an original and eight copies must be filed at the following address: Federal Energy Regulatory Commission, Magalie Salas, Secretary, 888 First St. NE., Washington, DC 20426.¹ All comments should include the project name and number, and bear the heading “Preliminary Comments,” Preliminary Recommendations,” “Preliminary Terms and Conditions,” or “Preliminary Prescriptions.” Comments and preliminary recommendations, terms and conditions, and prescriptions may be filed electronically via the Internet in lieu of paper. See 18 CFR 385.2001(a)(1)(iii) and the instructions on the Commission's Web site (http://www.ferc.gov) under the “e-Filing” link.

¹ Should an interested party decide not to submit preliminary terms, conditions and recommendations at this time this will not prejudice or limit their ability to submit final terms, conditions and recommendations after the final application is filed.

j. Comment deadline: Any party interested in commenting must do so before December 22, 2003.

k. Locations of the application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item f above.

You may also register online at http://www.ferc.gov/docs-filing/esubscription.asp to be notified via e-mail of new filings and issuances related to this or other pending projects. For assistance, contact FERC Online Support.

l. With this notice, we are initiating consultation with the State Historic Preservation Officer (SHPO), as required by section 106, National Historic Preservation Act, and the regulations of the Advisory Council on Historic Preservation, 36 CFR 800.4.

Magalie R. Salas,
Secretary.

[FR Doc. E3-00186 Filed 11-07-03; 8:45 am]

BILLING CODE 6717-01-P